DEPARTMENT OF THE INTERIOR

Bureau of Reclamation

Agency Information Collection Activities Under OMB Review; Comment Request

AGENCY: Bureau of Reclamation, Interior.

ACTION: Notice of renewal of a currently approved collection (OMB No. 1006-0006).

SUMMARY: In accordance with the Paperwork Reduction Act of 1995 (44 U.S.C. 3501 et seq.), this notice announces the following Information Collection Request (ICR) has been forwarded to the Office of Management and Budget (OMB) for review and comment: Certification Summary Form, Reporting Summary Form for Acreage Limitation, 43 CFR part 426 and 43 CFR part 428, OMB Control Number: 1006-0006. The ICR describes the nature of the information collection and its expected cost and burden.

DATES: Your comments must be received on or before June 4, 2001.

ADDRESSES: You may send comments regarding the burden estimate, or any other aspect of the information collection, including suggestions for reducing the burden, to the Office of Information and Regulatory Affairs, Office of Management and Budget, Attention: Desk Officer for the Department of the Interior, 725 17th Street, NW., Washington DC 20503. A copy of your comments should also be directed to the Bureau of Reclamation, Attention: D-5200, PO Box 25007, Denver, CO 80225-0007.

FOR FURTHER INFORMATION CONTACT: For further information or a copy of the proposed forms contact Stephanie McPhee, D-5200, PO Box 25007, Denver, CO 80225-0007; or by telephone: (303) 445-2897.

SUPPLEMENTARY INFORMATION: Title: Certification Summary Form, Reporting Summary Form for Acreage Limitation, 43 CFR part 426 and 43 CFR part 428.

Abstract: This information collection requires district offices to complete forms summarizing individual landholder (direct or indirect landowner or lessee) and farm operator certification and reporting forms. This collection of information allows the Bureau of Reclamation (we, our, or us) to confirm districts' compliance with Federal reclamation law.

Changes to the Reclamation Reform Act of 1982 (RRA) Forms and the Instructions to Those Forms

We made a few changes to the current Form 7-21SUMM-C and Form 7-21SUMM-R and the instructions to those forms that are editorial in nature and designed to increase the respondents' understanding of the forms, instructions to the forms, and what information is required to be submitted with the forms to the districts. These changes, as detailed in the ICR, include those resulting from the 60-day comment period initiated by the notice published in the Federal Register on January 3, 2001 (66 FR 384, Jan. 3, 2001). The proposed revisions to the RRA forms will be effective in the 2002 water year.

Frequency: Annually.

Respondents: Contracting entities that are subject to the acreage limitation provisions of Federal reclamation law.

Estimated Total Number of Respondents: 276.

Estimated Number of Responses per Respondent: 1.25.

Estimated Total Number of Annual Responses: 345.

Estimated Total Annual Burden on Respondents: 13,800 hours.

Estimate of Burden for Each Form:

Form No. | Estimated No. of respondents | Frequency of response | Total annual responses | Burden hours per responses | Total burden hours
7-21SUMM-C and tabulation sheets | 222 | 1.25 | 278 | 40 | 11,120
7-21SUMM-R and tabulation sheets | 54 | 1.25 | 67 | 40 | 2,680
Total | 276 | 1.25 | 345 |  | 13,800

Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

An agency may not conduct or sponsor, and a person is not required to respond to a collection of information unless it displays a currently valid OMB control number. Reclamation will display a valid OMB control number on the RRA forms. A Federal Register notice with a 60-day comment period soliciting comments on this collection of information was published in the Federal Register on January 3, 2001 (66 FR 384, Jan. 3, 2001). A list of the comments received and our responses to those comments will be sent to: (1) all districts, (2) all commenters, and (3) OMB with this ICR; it is also available from us upon request.

OMB has up to 60 days to approve or disapprove this information collection, but may respond after 30 days; therefore, public comment should be submitted to OMB within 30 days in order to assure maximum consideration.

Dated: April 27, 2001.
Wayne O. Deason,
Associate Director, Office of Policy.

[FR Doc. 01-11194 Filed 5-3-01; 8:45 am]

BILLING CODE 4310-MN-p